DEPARTMENT OF COMMERCE

International Trade Administration

Initiation of Antidumping and Countervailing Duty Administrative Reviews and Request for Revocation in Part

AGENCY: Import Administration, International Trade Administration, Department of Commerce.

ACTION: Notice of initiation of antidumping and countervailing duty administrative reviews and request for revocation in part.

SUMMARY: The Department of Commerce (the Department) has received requests to conduct administrative reviews of various antidumping and countervailing duty orders and findings with November anniversary dates. In accordance with the Department's regulations, we are initiating those administrative reviews. The Department also received a request to revoke one antidumping duty order in part.

EFFECTIVE DATE: December 27, 2004.

FOR FURTHER INFORMATION CONTACT: Holly A. Kuga, Office of AD/CVD Operations, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2004), for administrative reviews of various antidumping and countervailing duty orders and findings with November anniversary dates. The Department also received a timely request to revoke in part the antidumping duty order on Certain Hot-Rolled Carbon Steel Flat Products from Thailand.

Initiation of Reviews

In accordance with section 19 CFR 351.221(c)(1)(i), we are initiating administrative reviews of the following antidumping and countervailing duty orders and findings. We intend to issue the final results of these reviews not later than November 30, 2005.

Antidumping duty proceedings | Period to be reviewed
Mexico:
Carbon and Certain Alloy Steel Wire Rod, A-201-830 | 10/1/03—9/30/04
Siderurgica Lazaro Cardenas las Truchas S.A. ¹
Circular Welded Non-alloy Steel Pipe, A-201-805 | 11/1/03—10/31/04
Hylsa, S.A. de C.V.
Niples Del Norte, S.A. de C.V.
Netherlands: Certain Hot-Rolled Carbon Steel Flat Products, A-421-807 | 11/1/03—10/31/04
Corus Staal B.V.
Romania: Certain Hot-Rolled Carbon Steel Flat Products, A-485-806 | 11/1/03—10/31/04
S.C. Ispat Sidex S.A., aka Sidex S.A.
Sidex Trading S.r.l.
Metalexportimport, S.A.
Thailand: Certain Hot-Rolled Carbon Steel Flat Products, A-549-817 | 11/1/03—10/31/04
Nakornthai Strip Mill Public Co., Ltd.
Sahaviriya Steel Industries Public Co., Ltd.
Siam Strip Mill Public Co., Ltd.
The People's Republic of China:
Certain Cut-to-Length Carbon Steel Plate ², A-570-849 | 11/3/03—10/31/04
Beijing Shougang Xingang Co., Ltd.
Beijing Alliance of Xingang Science and Trade Co., Ltd.
Fresh Garlic*, A-570-831 | 11/1/03—10/31/04
Clipper Manufacturing Ltd.
Jinxiang Dong Yun Freezing Storage Co., Ltd.
Fook Huat Tong Kee Pte., Ltd. (FHTK)
Heze Ever-Best International Trade Co., Ltd. (f/k/a Shandong
Heze International Trade and Developing Company)
H&T Trading Company
Huaiyang Hongda Dehydrated Vegetable Company
Jinxiang Shanyang Freezing Storage Co., Ltd.
Jinxiang Hongyu Freezing and Storing Co., Ltd.
Jinan Yipin Corporation, Ltd.
Jining Yun Feng Agriculture Products Co., Ltd.
Linshu Dading Private Agricultural Products Co., Ltd.
Linyi Sanshan Import & Export Trading Co., Ltd.
Pizhou Guangda Import and Export Co., Ltd.
Shandong Jining Jinshan Textile Co., Ltd.
Shanghai Ever Rich Trade Company
Shanghai LJ International Trading Co., Ltd.
Sunny Import & Export Co., Ltd.
Taiyan Ziyang Food Co., Ltd.
Tancheng County Dexing Foods Co., Ltd.
Weifang Shennong Foodstuff Co., Ltd.
Jining Trans-High Trading Co., Ltd.
Xiangcheng Yisheng Foodstuffs Co.
Zhengzhou Harmoni Spice Co., Ltd.
¹ Company inadvertently omitted from previous initiation notice.
² If one of the above-named companies does not qualify for a separate rate, all other exporters of certain cut-to-length carbon steel plate from the People's Republic of China who have not qualified for a separate rate are deemed to be covered by this review as part of the single PRC entity of which the named exporters are a part.
* If one of the above-named companies does not qualify for a separate rate, all other exporters of fresh garlic from the People's Republic of China who have not qualified for a separate rate are deemed to be covered by this review as part of the single PRC entity of which the named exporters are a part.

Countervailing Duty Proceedings

None.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 202), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: December 16, 2004.
Holly A. Kuga,
Senior Office Director, Office 4 for Import Administration.

[FR Doc. E4-3804 Filed 12-23-04; 8:45 am]

BILLING CODE 3510-DS-P